DEPARTMENT OF DEFENSE

GENERAL SERVICES ADMINISTRATION

NATIONAL AERONAUTICS AND SPACE ADMINISTRATION

48 CFR Parts 4, 52, and 53

[FAC 2021-02; Item VIII; Docket No. FAR-2020-0052; Sequence No. 3]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: November 23, 2020.

FOR FURTHER INFORMATION CONTACT: Ms. Lois Mandell, Regulatory Secretariat Division (MVCB), at 202-501-4755 or GSARegSec@gsa.gov. Please cite FAC 2021-02, Technical Amendments.

SUPPLEMENTARY INFORMATION: In order to update certain elements in 48 CFR parts 4, 52, and 53 this document makes editorial changes to the FAR.

List of Subjects in 48 CFR Parts 4, 52, and 53

Government procurement.

William F. Clark,
Director, Office of Government-wide Acquisition Policy, Office of Acquisition Policy, Office of Government-wide Policy.

Therefore, DoD, GSA, and NASA amend 48 CFR parts 4, 52, and 53 as set forth below:

1. The authority citation for 48 CFR parts 4, 52, and 53 continues to read as follows:

Authority: 40 U.S.C. 121(c); 10 U.S.C. chapter 137; and 51 U.S.C. 20113.

PART 4—ADMINISTRATIVE AND INFORMATION MATTERS

4.2102 [Amended]

2. Amend section 4.2102 in paragraph (a) introductory text by removing “Prohibited equipment, systems, or services” and adding “Prohibited equipment, systems, or services” in its place.

PART 52—SOLICITATION PROVISIONS AND CONTRACT CLAUSES

3. Amend section 52.213-4 by—

a. Revising the date of the clause; and

b. Removing from paragraph (b)(1)(xiv) introductory text “(DEC 2007)” and adding “(MAY 2020)” in its place.

The revision reads as follows:

52.213-4 Terms and Conditions—Simplified Acquisitions (Other Than Commercial Items).

* * * * *

Terms and Conditions—Simplified Acquisitions (Other Than Commercial Items) (Nov 2020)

* * * * *

4. Amend section 52.252-5 by—

a. Removing from the introductory text “$(DEVIATION)” and adding “(DEVIATION)” in its place;

b. Revising the date of provision; and

c. Removing from paragraphs (a) and (b) “$(DEVIATION)” and adding “(DEVIATION)” in its place.

The revision reads as follows:

52.252-5 Authorized Deviations in Provisions.

* * * * *

Authorized Deviations in Provisions (Nov 2020)

* * * * *

5. Amend section 52.252-6 by—

a. Removing from the introductory text “$(DEVIATION)” and adding “(DEVIATION)” in its place;

b. Revising the date of clause; and

c. Removing from paragraphs (a) and (b) “$(DEVIATION)” and adding “(DEVIATION)” in its place.

The revision reads as follows:

52.252-6 Authorized Deviations in Clauses.

* * * * *

Authorized Deviations in Clauses (Nov 2020)

* * * * *

PART 53—FORMS

53.228 [Amended]

6. Amend section 53.228 by removing from paragraphs (h), (i), and (j) “28.202-1(a)(4)” and adding “28.202(a)(4)” in its place.

[FR Doc. 2020-21702 Filed 10-22-20; 8:45 am]

BILLING CODE 6820-EP-P